DEPARTMENT OF COMMERCE

International Trade Administration

[A-570-838]

Termination of Suspended Antidumping Duty Investigation on Honey From the People's Republic of China

AGENCY: Import Administration, International Trade Administration, Department of Commerce.

ACTION: Notice of final results of five-year (“Sunset”) review, termination of suspended antidumping duty investigation on honey from the People's Republic of China.

SUMMARY: On July 3, 2000, the Department of Commerce (“the Department”) initiated a sunset review of the suspended antidumping duty investigation on honey from the People's Republic of China (“China”). Because no domestic party responded to the sunset review notice of initiation of the suspended antidumping duty investigation by the applicable deadline, the Department is terminating this suspended investigation.

EFFECTIVE DATE: August 16, 2000.

FOR FURTHER INFORMATION CONTACT: Martha V. Douthit or James P Maeder, Office of Policy, Import Administration, International Trade Administration, U.S. Department of Commerce, 14th Street and Constitution Avenue, NW, Washington, D.C. 20230; telephone: (202) 482-5050 or (202) 482-3330, respectively.

SUPPLEMENTARY INFORMATION:

Background

On August 16, 1995, the Department suspended the antidumping duty investigation on honey from China (60 FR 42521). Pursuant to section 751(c) of the Tariff Act of 1930, as amended (“the Act”), the Department initiated a sunset review of this suspended investigation by publishing notice of the initiation in the Federal Register, July 3, 2000 (65 FR 41054). In addition, as a courtesy to interested parties, the Department sent letters, via certified and registered mail, to each party listed on the Department's most current service list for this proceeding to inform them of the automatic initiation of the sunset review on this suspended investigation.

In the sunset review of the suspended antidumping investigation on honey from China, we received notice of intent to participate from the American Honey Producers Association and the American Beekeeping Federation, Inc. However, on July 21, 2000, each of these domestic interested parties withdrew their notice. Therefore, the Department has determined that no domestic interested party intends to participate in the sunset review of this suspended investigation.

Determination To Terminate

Pursuant to section 751(c)(3)(A) of the Act and § 351.218(d)(1)(iii)(B)(3) of the Sunset Regulations (19 CFR 351.218(d)(i)(iii)(B)(3)), if no domestic interested party responds to the notice of initiation, the Department shall issue a final determination, within 90 days after the initiation of the review, revoking the finding or order or terminating the suspended investigation. Because no domestic interested party responded to the notice of initiation by the applicable deadline, July 18, 2000, we are terminating this suspended antidumping investigation.

Effective Date of Termination

The termination of the suspended investigation is effective as to all entries, or withdrawals from warehouse of the subject merchandise on or after August 16, 2000.

Dated: July 24, 2000.
Troy H. Cribb,
Acting Assistant Secretary for Import Administration.

[FR Doc. 00-19156 Filed 7-27-00; 8:45 am]

BILLING CODE 3510-DS-P